DEPARTMENT OF TRANSPORTATION

Federal Aviation Administration

14 CFR Part 71

[Docket No. FAA-2013-0171; Airspace Docket No. 13-ANM-6]

Amendment of Class E Airspace; Redmond, OR

AGENCY: Federal Aviation Administration (FAA), DOT.

ACTION: Final rule.

SUMMARY: This action amends the Class E airspace at Roberts Field, Redmond, OR. Controlled airspace is necessary to accommodate aircraft arriving and departing under Instrument Flight Rules (IFR) at Roberts Field. This action, initiated by the biennial review of the Redmond, OR airspace area, enhances the safety and management of aircraft operations at the airport. This action makes a minor correction to the geographic coordinates of the airport and also corrects the lateral dimensions of the southeast segment of Class E airspace designated as an extension to Class D and E surface area.

DATES: Effective date, 0901 UTC, September 18, 2014. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On February 11, 2014, the FAA published in the Federal Register a notice of proposed rulemaking (NPRM) to modify controlled airspace at Roberts Field, Redmond, OR (79 FR 8129). Interested parties were invited to participate in this rulemaking effort by submitting written comments on the proposal to the FAA. No comments were received.

Subsequent to publication, the FAA found an error in the lateral dimensions of the southeast segment of Class E surface area airspace and is corrected from 3.5-miles to 13.5-miles. The geographic coordinates also are adjusted to coincide with the FAAs aeronautical database.

Class E airspace designations are published in paragraph 6002, 6004, and 6005, respectively, of FAA Order 7400.9X dated August 7, 2013, and effective September 15, 2013, which is incorporated by reference in 14 CFR 71.1. The Class E airspace designations listed in this document will be published subsequently in that Order.

The Rule

This action amends Title 14 Code of Federal Regulations (14 CFR) Part 71 by modifying Class E surface area airspace at Roberts Field, Redmond, OR, to remove the segment extending from the 5.1-mile radius of the airport to .9 miles west of the Deschutes VORTAC, and by modifying Class E airspace designated as an extension to the Class D and Class E surface area by adding a segment extending from the 5.1-mile radius of Roberts Field, Redmond, OR, to 13.5 miles southeast of the airport, and removing the segment from the 5.1-mile radius of the airport to .9 miles west of the Deschutes VORTAC. After a biennial review of the airspace, the FAA found the segment is no longer needed for aircraft arriving and departing under IFR operations. Class E airspace extending upward from 700 feet above the surface is modified with segments extending from the 7.6-mile radius of Roberts Field to 11.5 miles northeast and 15 miles southeast of the airport. The lateral dimensions of the southeast segment of Class E airspace designated as an extension, extending from the 5.1-mile radius of the airport is corrected from 3.5 miles to 13.5 miles. This rule is necessary to accommodate RNAV (GPS) standard instrument approach procedures and for the safety and management of IFR operations at the airport. Also, the geographic coordinates of the airport are updated to coincide with the FAA's aeronautical database. Except for administrative changes and the changes listed above, this rule is the same as published in the NPRM.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Roberts Field, Redmond, OR.

Environmental Review

The FAA has determined that this action qualifies for categorical exclusion under the National Environmental Policy Act in accordance with FAA Order 1050.1E, Environmental Impacts: Policies and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of FAA Order 7400.9X, Airspace Designations and Reporting Points, dated August 7, 2013, and effective September 15, 2013 is amended as follows:

Paragraph 6002 Class E airspace Designated as Surface Areas.

* * * * *

ANM OR E2 Redmond, OR [Modified]

Redmond, Roberts Field, OR

(Lat. 44°15′14″ N., long. 121°09′00″ W.)

That airspace within a 5.1 mile radius of Roberts Field. This Class E airspace is effective during the specific dates and times established in advance by a Notice to Airmen. The effective date and time will thereafter be continuously published in the Airport/Facility Directory.

Paragraph 6004 Class E Airspace Areas Designated as an Extension to a Class D or Class E Surface Area.

* * * * *

ANM OR E4 Redmond, OR [Modified]

Redmond, Roberts Field, OR

(Lat. 44°15′15″ N., long. 121°09′00″ W.)

That airspace extending upward from the surface within 1 mile each side of the 122° bearing of Roberts Field extending from the 5.1-mile radius to 13.5 miles southeast of the airport. This Class E airspace is effective during the specific dates and times established by a Notice to Airmen. The effective date and time will thereafter be continuously published in the Airport/Facility Directory.

Paragraph 6005 Class E airspace areas extending upward from 700 feet or more above the surface of the earth.

* * * * *

ANM OR E5 Redmond, OR [Modified]

Redmond, Roberts Field, OR

(Lat. 44°15′15″ N., long. 121°09′00″ W.)

That airspace extending upward from 700 feet above the surface within a 7.6-mile radius of Roberts Field, and within 3 miles either side of the 87° degree bearing of Roberts Field extending from the 7.6-mile radius to 11.5 miles northeast of the airport, and within 3.5 miles either side of the 122° bearing of the airport extending from the 7.6-mile radius to 15 miles southeast of the airport.

Issued in Seattle, Washington, on June 11, 2014.
Johanna Forkner,
Manager (A), Operations Support Group, Western Service Center.

[FR Doc. 2014-14354 Filed 6-19-14; 8:45 am]

BILLING CODE 4910-13-P